DEPARTMENT OF COMMERCE

National Oceanic and Atmospheric Administration

[RTID 0648-XB674]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a special meeting via webinar to discuss development of its Allocations Decision Tool.

DATES: The Council meeting will be held from 1 p.m. until 5 p.m. on Monday, February 7, 2022.

ADDRESSES:

Meeting address: The meeting will be held via webinar. Webinar registration is required. See SUPPLEMENTARY INFORMATION.

Council address: South Atlantic Fishery Management Council, 4055 Faber Place Drive, Suite 201, N Charleston, SC 20405.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including the webinar registration link, agenda, briefing book materials and an online comment form will be posted on the Council's website at: http://safmc.net/safmc-meetings/council-meetings/.

The Council will focus discussion on its Allocation Decision Tool, which has been under development since 2020. The Council will apply the decision tool, as currently drafted, to Greater Amberjack to determine its functionality and discuss changes that should be made as well as how it will be best utilized to inform sector allocation decisions for other managed species in the future.

Comments may be submitted through the online form on the Council's website http://safmc.net/safmc-meetings/council-meetings/ beginning on Monday, January 24, 2022, and through 5 p.m. on February 7, 2022. Written comments may be directed to John Carmichael, Executive Director, South Atlantic Fishery Management Council, 4055 Faber Place Drive, Suite 201, N Charleston, SC 20405.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: December 21, 2021.
Tracey L. Thompson,
Acting Deputy Director, Office of Sustainable Fisheries, National Marine Fisheries Service.

[FR Doc. 2021-28011 Filed 12-23-21; 8:45 am]

BILLING CODE 3510-22-P